DEPARTMENT OF COMMERCE

National Oceanic and Atmospheric Administration

Proposed Information Collection; Comment Request; Survey Form for Feedback for Annual Tsunami Warning Communications Test

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 7, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jeff Lorens, 801-524-4000 or Jeffrey.Lorens@noaa.gov.

SUPPLEMENTARY INFORMATION:

I. Abstract

The NOAA/National Weather Service Western Region and West Coast/Alaska Tsunami Warning Center conduct test to assess the effectiveness of their Tsunami Warning communications system. This survey is required to gather specific feedback immediately following testing, which is conducted annually in September. Post-test feedback will be requested from emergency managers, the media, law enforcement officials, local government agencies/officials, and the general public. This will be a web-based survey. The responses will be solicited for a limited period immediately following completion of this test, not to exceed two weeks. This web-based survey will allow for a rapid and efficient collection of information regarding the effectiveness of the Tsunami Warning System, particularly with respect to communications systems and related processes.

II. Method of Collection

Web-based survey.

III. Data

OMB Number: None.

Form Number: None.

Type of Review: Regular submission.

Affected Public: Federal Government; State, Local, or Tribal Government; and individuals or households.

Estimated Number of Respondents: 600.

Estimated Time Per Response: 5 minutes.

Estimated Total Annual Burden Hours: 50.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 30, 2005.
Gwellnar Banks,
Management Analyst, Office of the Chief Information Officer.

[FR Doc. E5-8322 Filed 1-5-06; 8:45 am]

BILLING CODE 3510-KE-P